INTERNATIONAL TRADE COMMISSION

[Investigation Nos. 701-TA-602 and 731-TA-1412 (Final)]

Steel Wheels From China

Determinations

On the basis of the record ¹ developed in the subject investigations, the United States International Trade Commission (“Commission”) determines, pursuant to the Tariff Act of 1930 (“the Act”), that an industry in the United States is materially injured by reason of imports of steel wheels from China, provided for in subheadings 8708.70.45, 8708.70.60, and 8716.90.50 of the Harmonized Tariff Schedule of the United States, that have been found by the U.S. Department of Commerce (“Commerce”) to be sold in the United States at less than fair value (“LTFV”), and to be subsidized by the government of China.2 3

¹ The record is defined in sec. 207.2(f) of the Commission's Rules of Practice and Procedure (19 CFR 207.2(f)).

² The Commission also finds that imports subject to Commerce's affirmative critical circumstances determinations are not likely to undermine seriously the remedial effect of the countervailing and antidumping duty orders on steel wheels from China.

³ Chairman David S. Johanson and Commissioner Meredith M. Broadbent dissenting.

Background

The Commission, pursuant to sections 705(b) and 735(b) of the Act (19 U.S.C. 1671d(b) and 19 U.S.C. 1673d(b)), instituted these investigations effective March 27, 2018, following receipt of a petition filed with the Commission and Commerce by Accuride Corporation, Evansville, Indiana, and Maxion Wheels Akron LLC, Akron, Ohio. The final phase of the investigations was scheduled by the Commission following notification of preliminary determinations by Commerce that imports of steel wheels from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 30, 2018 (83 FR 61672). The schedule was revised in a subsequent notice published in the Federal Register on February 12, 2019 (84 FR 3485). The hearing was held in Washington, DC, on March 14, 2019, and all persons who requested the opportunity were permitted to appear in person or by counsel.

The Commission made these determinations pursuant to sections 705(b) and 735(b) of the Act (19 U.S.C. 1671d(b) and 19 U.S.C. 1673d(b)). It completed and filed its determinations in these investigations on May 13, 2019. The views of the Commission are contained in USITC Publication 4892 (May 2019), entitled Steel Wheels from China: Investigation Nos. 701-TA-602 and 731-TA-1412 (Final).

By order of the Commission.
Issued: May 13, 2019.
Katherine Hiner,
Acting Secretary to the Commission.

[FR Doc. 2019-10230 Filed 5-16-19; 8:45 am]

BILLING CODE 7020-02-P